DEPARTMENT OF ENERGY

Environmental Management Site-Specific Advisory Board, Idaho Cleanup Project

AGENCY: Office of Environmental Management, Department of Energy.

ACTION: Notice of open meeting.

SUMMARY: This notice announces an in-person/virtual hybrid meeting of the Environmental Management Site-Specific Advisory Board (EM SSAB), Idaho Cleanup Project (ICP). The Federal Advisory Committee Act requires that public notice of this meeting be announced in the Federal Register.

DATES: Tuesday, April 26, 2022; 8:00 a.m.-4:00 p.m.

The opportunities for public comment are at 10:15 a.m. and 3:45 p.m. MT.

These times are subject to change; please contact the ICP Citizens Advisory Board (CAB) Administrator (below) for confirmation of times prior to the meeting.

ADDRESSES: This meeting will be open to the public in-person at the Shoshone-Bannock Hotel and Event Center (address below) or virtually via Zoom. To attend virtually, please contact Jordan Davies, ICP CAB Administrator, by email jdavies@northwindgrp.com or phone (720) 452-7379, no later than 5:00 p.m. MT on Monday, April 25, 2022.

Board members, Department of Energy (DOE) representatives, agency liaisons, and support staff will participate in-person, strictly following COVID-19 precautionary measures, at: Shoshone-Bannock Hotel and Event Center, 777 Bannock Trail, Pocatello, ID 83202.

FOR FURTHER INFORMATION CONTACT: Jordan Davies, ICP CAB Administrator, by phone (720) 452-7379 or email jdavies@northwindgrp.com or visit the Board's internet homepage at https://energy.gov/em/icpcab.

SUPPLEMENTARY INFORMATION: Purpose of the Board: The purpose of the Board is to make recommendations to DOE-EM and site management in the areas of environmental restoration, waste management, and related activities.

Tentative Agenda (agenda topics may change up to the day of the meeting; please contact Jordan Davies for the most current agenda):

1. Shoshone-Bannock Tribes' Welcoming Prayer

2. Recent Public Outreach

3. Integrated Waste Treatment Unit (IWTU) Update

4. Fiscal Year 2023 Budget

5. Idaho Environmental Coalition, LLC (IEC) Contract Task 3

6. Cultural Repatriation

7. DOE Idaho National Laboratory Programmatic Agreement for National Historic Preservation Act

Public Participation: The in-person/online virtual hybrid meeting is open to the public either in-person at the Shoshone-Bannock Hotel and Event Center or via Zoom. To sign-up for public comment, please contact the ICP CAB Administrator (above) no later than 5:00 p.m. MT on Monday, April 25, 2022. In addition to participation in the live public comment sessions identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by writing or calling Jordan Davies, ICP CAB Administrator, phone (720) 452-7379 or email jdavies@northwindgrp.com. Minutes will also be available at the following website: https://www.energy.gov/em/icpcab/listings/cab-meetings.

Signed in Washington, DC, on March 22, 2022.
LaTanya Butler,
Deputy Committee Management Officer.

[FR Doc. 2022-06422 Filed 3-25-22; 8:45 am]

BILLING CODE 6450-01-P